DEPARTMENT OF AGRICULTURE

Agricultural Marketing Service

[Doc. No. AMS-NOP-13-0096; NOP-13-07]

National Organic Standards Board (NOSB): Notice of Intent To Renew Charter and Call for Nominations

AGENCY: Agricultural Marketing Service, USDA.

ACTION: Notice: Intent to renew charter and call for nominations.

SUMMARY: The National Organic Standards Board (NOSB) was established to assist in developing standards for substances to be used in organic production and to advise the Secretary on the implementation of the Organic Foods Production Act of 1990 (OFPA). Through this Notice, USDA is announcing its intent to renew the Charter of the NOSB; the current charter expires on May 10, 2014. The USDA is also requesting nominations to fill four (4) upcoming vacancies on the NOSB. The positions to be filled are: environmentalist (1 position), producer (1 position), handler (1 position), and retailer (1 position). The Secretary of Agriculture will appoint one person to each of these 4 positions to serve a 5-year term of office that will commence on January 24, 2015, and run until January 24, 2020.

DATES: The current NOSB Charter expires on May 10, 2014. Written nominations must be postmarked on or before May 15, 2014.

ADDRESSES: Nomination applications are to be sent to Rita Meade, USDA-AMS-NOP, 1400 Independence Avenue SW., Room 2648-So., Ag Stop 0268, Washington, DC 20250, or via email to Rita.Meade@ams.usda.gov. Electronic submittals by email are preferred.

FOR FURTHER INFORMATION CONTACT: Michelle Arsenault, (202) 720-0081; Email: Michelle.Arsenault@ams.usda.gov; Fax: (202) 205-7808 or Rita Meade, (202) 260-8636; Email: Rita.Meade@ams.usda.gov.

SUPPLEMENTARY INFORMATION: The OFPA of 1990, as amended (7 U.S.C. Section 6501 et seq.), requires the Secretary to establish an organic certification program for producers and handlers of agricultural products that have been produced using organic methods. The OFPA includes the requirement that the Secretary establish an NOSB in accordance with the Federal Advisory Committee Act (FACA) (5 U.S.C. App. 2 et seq.). The purpose of the NOSB is to assist in the development of a proposed National List of Allowed and Prohibited Substances and to advise the Secretary on the implementation of the OFPA.

Pursuant to the FACA, notice is hereby given that the Secretary of Agriculture intends to renew the NOSB for two years. The NOSB is of a continuing nature due to the changes in organic production and marketing brought about through advancements in science and technology. Committee members are appointed by the Secretary of Agriculture and serve five-year terms.

The NOSB is composed of 15 members; including 4 organic producers, 2 organic handlers, a retailer, 3 environmentalists, 3 public/consumer representatives, a scientist, and a certifying agent. Through this Notice, USDA is seeking nominations to fill the following four (4) upcoming NOSB vacancies: environmentalist (1 position), producer (1 position), handler (1 position), and retailer (1 position). As per the OFPA, individuals seeking appointment to the NOSB at this time must: have expertise in areas of environmental protection and resource conservation; must be an individual who owns or operates an organic farming operation; must be an individual that owns or operates an organic handling operation; or must be an individual who owns or operates a retail establishment with significant trade in organic products.

Selection criteria includes such factors as: understanding of organic principles and practical experience in the organic community; demonstrated experience in the development of public policy such as participation on public or private advisory boards, boards of directors or other comparable organizations; participation in standards development or involvement in educational outreach activities; a commitment to the integrity of the organic food and fiber industry; the ability to evaluate technical information and to fully participate in Board deliberation and recommendations; and the willingness to commit the time and energy necessary to assume Board duties; demonstrated experience and interest in organic production; organic certification; support of consumer and public interest organizations; demonstrated experience with respect to agricultural products produced and handled on certified organic farms; and such other factors as may be appropriate for specific positions.

To nominate yourself or someone else, please submit: a resume, a cover letter, and a Form AD-755, which can be accessed at: www.ocio.usda.gov/forms/doc/AD-755.pdf. Resumes must be no longer than 5 pages, and include at the beginning a summary of the following information: Current and past organization affiliations; areas of expertise; education; career positions held; any other notable positions held. You may also submit a list of endorsements or letters of recommendation, if desired. Resume and completed requested background information are required for a nominee to receive consideration for appointment by the Secretary.

Nominations are open to all individuals without regard to race, color, religion, gender, national origin, age, mental or physical disability, marital status, or sexual orientation. To ensure that the recommendations of the NOSB take into account the needs of the diverse groups that are served by the Department, membership on the NOSB shall include, to the extent practicable, individuals with demonstrated ability to represent minorities, women, and persons with disabilities.

The information collection requirements concerning the nomination process have been previously cleared by the Office of Management and Budget (OMB) under OMB Control No. 0505-0001.

Dated: March 6, 2014.
Rex A. Barnes,
Associate Administrator, Agricultural Marketing Service.

[FR Doc. 2014-05372 Filed 3-11-14; 8:45 am]

BILLING CODE 3410-02-P